DEPARTMENT OF HEALTH AND HUMAN SERVICES

Centers for Medicare & Medicaid Services

42 CFR Parts 412, 414, and 424

[CMS-1540-CN]

RIN 0938-AO16

Medicare Program; Inpatient Rehabilitation Facility Prospective Payment System for Federal Fiscal Year 2007; Certain Provisions Concerning Competitive Acquisition for Durable Medical Equipment, Prosthetics, Orthotics, and Supplies (DMEPOS); Accreditation of DMEPOS Suppliers; Correction

AGENCY: Centers for Medicare & Medicaid Services (CMS), HHS.

ACTION: Correction.

SUMMARY: This document corrects technical errors that appeared in the final rule published in the Federal Register on August 18, 2006, titled “Medicare Program; Inpatient Rehabilitation Facility Prospective Payment System for Federal Fiscal Year 2007; Certain Provisions Concerning Competitive Acquisition for Durable Medical Equipment, Prosthetics, Orthotics, and Supplies (DMEPOS); Accreditation of DMEPOS Suppliers” (71 FR 48354).

DATES: Effective Dates: The regulatory changes to part 412 of 42 CFR are effective October 1, 2006. The regulatory changes to part 414 of 42 CFR, other than § 414.406(e), are effective August 31, 2006. The effective date for § 414.406(e) is October 1, 2006. The regulatory changes to part 424 of 42 CFR are effective October 2, 2006. The updated IRF prospective payment rates are effective October 1, 2006, for discharges occurring on or after October 1, 2006, and on or before September 30, 2007 (that is, during FY 2007).

FOR FURTHER INFORMATION CONTACT: Zinnia Ng, (410) 786-4587.

SUPPLEMENTARY INFORMATION:

I. Background

In FR Doc. 06-6694 of August 18, 2006 (71 FR 48354), there were several technical errors that are identified and corrected in the Correction of Errors section below. The provisions in this correction notice are effective as if they had been included in the document published on August 18, 2006.

II. Summary of Errors

The first of the technical errors identified and corrected in the Correction of Errors section below occurred in the “Effective Dates” paragraph of the final rule (71 FR 48354). We inadvertently neglected to identify the effective date for 42 Code of Federal Regulations (CFR) 414.406(e). We will identify the effective date for § 414.406(e) as October 1, 2006.

In addition, two typographical errors occurred that resulted in duplicate descriptions of the Addendum that appears on page 48412 of the final rule, as well as a misspelled word that appears in a footnote on page 48434. We will delete the duplicate description of the Addendum and correct the spelling of the misspelled word.

A typesetting error also occurred on page 48415 in the final rule. The wage index value for Canton-Massillon, Ohio (CBSA 15940) displays an incorrect wage index value of 0.8735. We will replace the incorrect wage index value with the correct wage index value of 0.8935, as published in the Inpatient Rehabilitation Facility Prospective Payment System (IRF PPS) proposed rule (71 FR 28106, 28145, May 15, 2006).

III. Correction of Errors

In FR Doc. 06-6694 of August 18, 2006 (71 FR 48354), make the following corrections:

1. On page 48354, in the first column, the paragraph entitled “Effective Dates” is deleted and replaced with, “Effective Dates: The regulatory changes to part 412 of 42 CFR are effective October 1, 2006. The regulatory changes to part 414 of 42 CFR, other than § 414.406(e), are effective August 31, 2006. The effective date for § 414.406(e) is October 1, 2006. The regulatory changes to part 424 of 42 CFR are effective October 2, 2006. The updated IRF prospective payment rates are effective October 1, 2006, for discharges occurring on or after October 1, 2006, and on or before September 30, 2007 (that is, during FY 2007).”

2. On page 48412, portions of the first and second columns will be deleted. The text to be deleted begins in the first column with the word “Addendum” through the end of the second full paragraph in the second column.

3. On page 48415, the Canton-Massillon, OH (CBSA 15940) wage index value of “0.8735” is corrected to read “0.8935”.

4. On page 48434, in the third column, second footnote, line 2, “shrot” is corrected to read “short”.

IV. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, for good cause found by the agency, if the agency incorporates a statement of the finding and its reasons in the rule issued.

The policies and payment methodology expressed in the FY 2007 final rule (71 FR 48354) have previously been subjected to notice and comment procedures. This correction notice merely provides technical corrections to the FY 2007 final rule that was promulgated through notice and comment rulemaking, and does not make substantive changes to the policies or payment methodology that were expressed in the final rule. For example, this notice corrects typographical and typesetting errors. In addition, we inadvertently neglected to identify the effective date for 42 CFR 414.406(e). Therefore, we find it unnecessary to undertake further notice and comment procedures with respect to this correction notice. We also believe it is in the public interest to waive notice and comment procedures and the 30-day delay in effective date for this notice. This correction notice is intended to ensure that the FY 2007 final rule accurately reflects the policies expressed in the final rule, and the correct information is made available to the public prior to October 1, 2006.

For the reasons stated above, we find that both notice and comment and the 30-day delay in effective date for this correction notice are unnecessary and impracticable. We also find that it is in the public interest to make this notice effective in conjunction with the final rule to which the corrections apply, and that it would be contrary to the public interest to do otherwise. Therefore, we find good cause to waive notice and comment procedures and the 30-day delay in effective date for this correction notice.

(Catalog of Federal Domestic Assistance Program No. 93.773, Medicare—Hospital Insurance; and Program No. 93.774, Medicare—Supplementary Medical Insurance Program)

Dated: September 22, 2006.
Ann C. Agnew,
Executive Secretary to the Department.

[FR Doc. E6-15980 Filed 9-28-06; 8:45 am]

BILLING CODE 4120-01-P